DEPARTMENT OF COMMERCE

National Oceanic and Atmospheric Administration

RIN: 0648-XA708

Fisheries of the South Atlantic and Gulf of Mexico; South Atlantic Fishery Management Council; Public Meetings

AGENCY: National Marine Fisheries Service (NMFS), National Oceanic and Atmospheric Administration (NOAA), Commerce.

ACTION: Notice of public meetings.

SUMMARY: The South Atlantic Fishery Management Council (SAFMC) will hold meetings of its Scientific and Statistical Committee (SSC) and Socio-Economic Sub-Panel (SEP) to review fishery management plan (FMP) amendments under development, ABC control rule approaches, stock assessments of black sea bass and golden tilefish, planning for future assessments of Spanish mackerel and cobia, and the National SSC workshop. The meetings will be held in Charleston, SC. See SUPPLEMENTARY INFORMATION.

DATES: The meetings will be held November 7-10, 2011. See SUPPLEMENTARY INFORMATION for specific dates and times.

ADDRESSES: The meetings will be held at the Hampton Inn, 678 Citadel Haven Drive, Charleston, SC 29414; telephone: (843) 573-1200.

FOR FURTHER INFORMATION CONTACT: Kim Iverson, Public Information Officer, 4055 Faber Place Drive, Suite 201, North Charleston, SC 29405; (843) 571-4366; e-mail: Kim.Iverson@safmc.net.

SUPPLEMENTARY INFORMATION: Under the Magnuson-Stevens Reauthorized Act, the SSC is the body responsible for reviewing the Council's scientific materials. The SEP sub-pane reviews social and economic information and reports its findings to the SSC. The SEP will discuss FMP amendments that are under development and the role of social and economic sciences in the Council process. The SSC will discuss FMP amendments under development, assessments of black sea bass and tilefish, review advancements in ABC control rule development, review planning information for assessments of Spanish mackerel and cobia to be developed in 2013, and discuss the findings of the National SSC workshop.

SEP Meeting Schedule

November 7, 2011, 1 p.m.-5 p.m.

SSC Meeting Schedule

November 8, 2011, 9 a.m.-6 p.m.

November 9, 2011, 9 a.m.-6 p.m.

November 10, 2011, 9 a.m.-3 p.m.

Special Accommodations

These meetings are physically accessible to people with disabilities. Requests for sign language interpretation or other auxiliary aids should be directed to the Council office (see ADDRESSES) at least 3 business days prior to the meeting.

Dated: September 14, 2011.
Tracey L. Thompson,
Acting Director, Office of Sustainable Fisheries, National Marine Fisheries Service.

[FR Doc. 2011-23928 Filed 9-16-11; 8:45 am]

BILLING CODE 3510-22-P